DEPARTMENT OF ENERGY

Federal Energy Regulatory Commission

[Docket No. EL00-99-000]

Maine Public Utilities Commission, Complainant v. ISO New England, Inc. Respondent; Notice of Complaint

August 18, 2000.

Take notice that on August 17, 2000, the Maine Public Utilities Commission (MPUC), tendered for filing a complaint under sections 206 and 306 of the Federal Power Act petitioning the Commission for an order directing ISO New England (ISO-NE) to recalculate the clearing price of Energy for Trading Intervals 13-17 on May 8, 2000 to exclude the bid price for energy purchased from a supplier in New York State under an ICAP-Energy 2 bilateral contract. The complaint alleges that the clearing price resulting from ISO-NE's inclusion of the referenced external contract as a qualifying source resulted in a market clearing price inconsistent with Market Rules 4 and 5 and Operating Procedure 9 and, thus, in violation of the field rate doctrine. Alternatively, the complaint argues, the $6000 clearing price is in violation of the filed rate because the ISO did not fulfill it obligation under Market Rule 17 to monitor and mitigate where appropriate to ensure that the markets function properly. For this reason, the compliant requests that the clearing price be recalculated to substitute a default bid that the ISO should have imposed, such as the $1100/MWh clearing price identified in its June 12, 2000 emergency rule filing.

In addition, the MPUC complains that Market Rule 15 is no longer just and reasonable and proposes revisions to Market Rule 15 to restore the ISO's ability to identify and correct, within a limited time frame, prices that result from market design flaws.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before September 7, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before September 7, 2000.

Linwood A. Watson, Jr.,
Acting Secretary.

[FR Doc. 00-21663 Filed 8-23-00; 8:45 am]

BILLING CODE 6717-01-M